FEDERAL COMMUNICATIONS COMMISSION

Notice of Public Information Collection(s) Being Submitted for Review to the Office of Management and Budget; Comments Requested

March 11, 2008.

SUMMARY: The Federal Communications Commission, as part of its continuing effort to reduce paperwork burden, invites the general public and other Federal agencies to take this opportunity to comment on the following information collection(s), as required by the Paperwork Reduction Act of 1995, 44 U.S.C. Sections 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reductions Act (PRA) comments should be submitted on or before April 21, 2008. If you anticipate that you will be submitting comments, but find it difficult to do so within the period of time allowed by this notice, you should advise the FCC contact listed below as soon as possible.

ADDRESSES: Direct all PRA comments to Nicholas A. Fraser, Office of Management and Budget, via e-mail to Nicholas_A._Fraser@omb.eop.gov or via fax at (202) 395-5167 and to the Federal Communications Commission via e-mail to PRA@fcc.gov or by U.S. mail to Leslie F. Smith, Federal Communications Commission, Room 1-C216, 445 12th Street, SW., Washington, DC 20554 at 202-418-0217.

FOR FURTHER INFORMATION CONTACT: For additional information contact Leslie F. Smith via e-mail at PRA@fcc.gov or call 202-418-0217. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of the ICR (or its OMB control number, if there is one) and then click on the ICR Reference Number to view detailed information about this ICR.

SUPPLEMENTARY INFORMATION: OMB Control Number: 3060-0774.

Title: Universal Service Reporting, Disclosure, and Record Retention Requirements (47 CFR parts 36 and 54).

Form Number: N/A.

Type of Review: Revision of a currently approved collection.

Respondents: Business or other for-profit entities, not-for-profit institutions, and state, local, or tribal government.

Number of Respondents: 7,060,500 respondents; 7,631,034 responses.

Estimated Time per Response: 0.084-125 hours.

Frequency of Response: On occasion, quarterly, annually, and five-year reporting requirements; recordkeeping requirements; and third party disclosure requirements.

Obligation to Respond: Required to obtain or retain benefits.

Total Annual Burden: 1,279,455 hours.

Total Annual Cost: $0.00.

Privacy Act Impact Assessment: No impacts.

Nature of Extent of Confidentiality: This collection does not address information of a confidential nature.

Needs and Uses: The Telecommunication Act of 1996 (1996 Act) directed the Commission to initiate a rulemaking to reform the system of universal service so that universal service is preserved and advanced as markets move toward competition. To fulfill that mandate, on March 8, 1996, the Commission adopted a Notice of Proposed Rulemaking (NPRM) in CC Docket No. 96-45 to implement the congressional directives set out in section 254 of the Communications Act of 1934, as amended by the 1996 Act. Pursuant to section 254(a)(1), the NPRM also referred numerous issues related to universal service to a Federal-State Joint Board for recommended decision. On November 8, 1996, the Joint Board released a Recommended Decision in which it made recommendations to assist and counsel the Commission in the creation of an effective universal service support mechanism that would ensure that the goals of affordable, quality service and access to advanced services are met by means that enhance competition. On November 18, 1996, the Commission's Common Carrier Bureau released a Public Notice (DA 96-1891) seeking public comment on the issues addressed and recommendations made by the Joint Board in the Recommended Decision. In a Report and Order issued in CC Docket No. 96-45, released on May 8, 1997, and other proceedings, the Commission adopted rules that were designed to implement the universal service provisions of section 254.

On August 29, 2007, the Commission released the Report and Order, 2007 Comprehensive Review of the Universal Service Fund Management, Administration and Oversight, WC Docket Nos. 05-195, 02-60, 03-109 and CC Docket Nos. 96-45, 02-6, 97-21, FCC 07-150. In this order, the Commission took several further steps to safeguard the Universal Service Fund from waste, fraud, and abuse, including imposing document retention rules on all universal service programs and program contributors.

Federal Communications Commission.
Marlene H. Dortch,
Secretary.

[FR Doc. E8-5408 Filed 3-19-08; 8:45 am]

BILLING CODE 6712-01-P